NATIONAL SCIENCE FOUNDATION

U.S. Chief Financial Officer Council; Grants Policy Committee

ACTION: Notice of open stakeholder Webcast meeting.

SUMMARY: This notice announces the third of a series of open stakeholder webcast meetings sponsored by the Grants Policy Committee (GPC) of the U.S. Chief Financial Officers Council.

DATES: The GPC will hold a webcast meeting on Tuesday, June 19, 2007 from 2-3:30 p.m., Eastern Daylight Time. The Webcast will be broadcasted live.

ADDRESSES: The GPC June 19 Webcast meeting will be broadcasted from and held in Room B-180 of the U.S. Department of Housing and Urban Development (HUD), 451 7th Street, SW., Washington, DC 20410. Seating is limited—the first 50 people to respond and receive confirmation of the response can be part of the live audience. Both federal and non-federal employees must R.S.V.P. to reserve your seat by contacting Charisse Carney-Nunes at GPCWebcast@nsf.gov. All who have reserved seating must arrive at the HUD building fifteen minutes prior to broadcast (arrive on the North side of the building). You must have a photo ID to gain access and will have to go through the security screening. The GPC encourages non-federal organizations staffs and members to attend the meeting in person or via Webcast.

Overview: The subject of this webcast meeting will be grant life cycle changes: data and reporting requirements and impacts on awardee and federal communities, policies, and planning. Specifically, the Webcast goals are to: (1) To raise awareness in the stakeholder community about new legislation concerning transparency and accountability and the effects it will have on stakeholder federal assistance funding cycle, data and reporting requirements, policies and planning; and (2) to share information about the GPC's long-term planning and prioritization efforts and to receive input from stakeholders to inform a draft plan.

Further Information About the GPC Webcast: Questions on the Webcast should be directed to Charisse Carney-Nunes, National Science Foundation, 4201 Wilson Boulevard, Arlington, VA 22230; e-mail, GPCWebcast@nsf.gov. Information and materials that pertain to this webcast meeting, including the call-in telephone number and the agenda will be posted on the Federal Grants Streamlining Initiative (FGSI) Web site at http://www.grants.gov/aboutgrants/grants_news.jsp under “June 19 Meeting Materials.” The link to view the Webcast will be posted on this site, along with Webcast instructions. After the meeting, a link to its recording will be posted on the FGSI Web site for at least 90 days.

Comments Submission Information: You may submit comments during the Webcast meeting via telephone or e-mail. The call-in telephone number, which may be used only during the live Webcast, is 202-708-0995. The e-mail address for comments, which should be used only during the Webcast is HUDTV@HUD.GOV. The e-mail address for comments after the Webcast is GPCWebcast@nsf.gov. You may submit after Webcast comments via e-mail through close of business Tuesday, July 3, 2007.

SUPPLEMENTARY INFORMATION: This Webcast meeting has been made possible by the cooperation of the National Science Foundation, HUD, and the GPC.

Purpose of the Webcast meeting: The purpose of the meeting is to raise awareness in the stakeholder community about new legislation. The Federal Funding Accountability and Transparency Act (FFATA) was signed into law in September 2006, and requires the full disclosure of entities or organizations receiving federal funds beginning in fiscal year 2007. Specifically, the law requires that the Federal government create and maintain a single searchable Web site, accessible by the public at no cost to access, that includes specific data elements about most federal awards. Understanding this new legislation is extremely important to all GPC stakeholders because ultimately this law will apply to most awardees and sub-awardees, and federal agencies will require awardees to provide much of the needed data as a condition of receiving federal financial assistance.

Secondarily, the purpose of the webcast meeting is to inform stakeholders about the GPC's long-term planning and prioritization efforts and to receive input from stakeholders to inform a draft plan that will include both GPC's mission and vision, as well as a listing of GPC priorities as they relate to ongoing activities connected to the FGSI.

Meeting structure and agenda: The June 19 Webcast meeting will have the following structure and agenda:

(1) Welcome by the host agency;

(2) Overview of the FFATA by the Chair of the GPC;

(3) Overview of the GPC's long-term planning and proposed priorities by the Chair of the GPC; and

(4) Participants' discussion, questions and comments.

Background: Background about the FGSI is set forth in the Federal Register published on September 13, 2006 (71 FR 54098).

Dated: May 17, 2007.
Thomas Cooley,
Chair, Grants Policy Committee of the U.S. Chief Financial Officer Council.

[FR Doc. E7-9839 Filed 5-22-07; 8:45 am]

BILLING CODE 7555-01-P